DEPARTMENT OF COMMERCE

Foreign-Trade Zones Board

[B-27-2013]

Foreign-Trade Zone (FTZ) 161—Sedgwick County, Kansas; Notification of Proposed Production Activity; Siemens Energy, Inc., (Wind Turbine Nacelles and Hubs), Hutchinson, Kansas

Siemens Energy, Inc. (SEI), an operator of FTZ 161, submitted a notification of proposed production activity for its facilities in Hutchinson, Kansas. The notification conforming to the requirements of the regulations of the FTZ Board (15 CFR 400.22) was received on March 7, 2013.

The SEI facilities are used for the production of wind turbine nacelles and hubs. Pursuant to 15 CFR 400.14(b), FTZ activity would be limited to the specific foreign-status materials and components and specific finished products described in the submitted notification (as described below) and subsequently authorized by the FTZ Board.

Production under FTZ procedures could exempt SEI from customs duty payments on the foreign status materials and components used in export production. On its domestic sales, SEI would be able to choose the duty rates during customs entry procedures that apply to wind turbine nacelles and hubs (free, 2.5%) for the foreign status inputs noted below. Customs duties also could possibly be deferred or reduced on foreign status production equipment.

The components and materials sourced from abroad include: greases/oils; pastes, of organic chemicals; resins; putties; adhesives; anti-corrosion coatings; plastic tubes/washers/hoses/seals/sheets/tape/bags/containers; bushings; funnels; weather strips; hydraulic hoses; rubber gaskets/o-rings/seals/profiles/edgings/hoses/vibration dampeners; covers; gaskets; labels; fasteners; bolt extenders; springs; rings; bushings; flanges; hatches; supports; pipes; clamps; brackets; support adapters; base metal mountings; wire; nets; trays; adjustable chains; filters; copper pipes/adapters/fasteners/reducers; aluminum plates/flanges/covers; locks and locksets; hinges; brackets; flex hoses; oil coolers; pumps and related parts; fans; valves; bearings; pulleys; gears; service cranes; distributor blocks; ring modules; nozzles; motors; generators; plates/guides/cables; slip rings; cable glands; electrical panels/boards; lamps; sensors; rod ends; flash memory cards; lighting equipment; electrical components and connectors; switches; printed circuit boards/assemblies; controllers; cable; insulated fittings; fiber optic cables; cable/electrical conduits; lightning card holders; and, transducers (duty rate ranges from free to 12.5%).

Public comment is invited from interested parties. Submissions shall be addressed to the FTZ Board's Executive Secretary at the address below. The closing period for their receipt is May 20, 2013.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: March 28, 2013.
Andrew McGilvray,
Executive Secretary.

[FR Doc. 2013-08109 Filed 4-5-13; 8:45 am]

BILLING CODE P